DEPARTMENT OF DEFENSE

Office of the Secretary

[Docket ID: DoD 2009-OS-0116]

Privacy Act of 1974; System of Records

AGENCY: Defense Intelligence Agency, DoD.

ACTION: Notice to Delete Systems of Records.

SUMMARY: The Defense Intelligence Agency is deleting a system of records notice from its existing inventory of records systems subject to the Privacy Act of 1974 (5 U.S.C. 552a) as amended.

DATES: This proposed action will be effective without further notice on September 8, 2009 unless comments are received which result in a contrary determination.

ADDRESSES: DIA Privacy Act Coordinator, Records Management Section, 200 McDill Blvd, Washington DC 20340.

FOR FURTHER INFORMATION CONTACT: Ms. Theresa Lowery at (202) 231-1193.

SUPPLEMENTARY INFORMATION: The Defense Intelligence Agency systems of records notices subject to the Privacy Act of 1974 (5 U.S.C. 552a), as amended, have been published in the Federal Register and are available from the address above.

The Defense Intelligence Agency is proposing to delete a system of records notice from its existing inventory of records systems subject to the Privacy Act of 1974 (5 U.S.C. 552a) as amended. The proposed deletion is not within the purview of subsection (r) of the Privacy Act of 1974 (5 U.S.C. 552a), as amended, which requires the submission of a new or altered system report.

Dated: July 27, 2009.
Patricia L. Toppings,
OSD Federal Register Liaison Officer, Department of Defense.

LDIA 0335

SYSTEM NAME:

Alcohol and Drug Abuse Reporting Program (February 22, 1993, 58 FR 10613).

REASON:

The records contained in this system of records have been migrated into the Employee Assistance Program Case Records (EAP), an approved DIA SORN (LDIA 06-0001).

[FR Doc. E9-18903 Filed 8-6-09; 8:45 am]

BILLING CODE 5001-06-P